DEPARTMENT OF JUSTICE

Drug Enforcement Administration

[Docket No. DEA-392]

Importer of Controlled Substances Application: Sigma-Aldrich International GMBH—Sigma Aldrich Co LLC

ACTION: Notice of application.

DATES: Registered bulk manufacturers of the affected basic class, and applicants therefore, may file written comments on or objections to the issuance of the proposed registration in accordance with 21 CFR 1301.34(a) on or before November 20, 2015. Such persons may also file a written request for a hearing on the application pursuant to 21 CFR 1301.43 on or before November 20, 2015.

ADDRESSES: Written comments should be sent to: Drug Enforcement Administration, Attention: DEA Federal Register Representative/ODXL, 8701 Morrissette Drive, Springfield, Virginia 22152. Request for hearings should be sent to: Drug Enforcement Administration, Attention: Hearing Clerk/LJ, 8701 Morrissette Drive, Springfield, Virginia 22152.

SUPPLEMENTARY INFORMATION: The Attorney General has delegated her authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Deputy Assistant Administrator of the DEA Office of Diversion Control (“Deputy Assistant Administrator”) pursuant to section 7 of 28 CFR part 0, appendix to subpart R.

In accordance with 21 CFR 1301.34(a), this is notice that on May 29, 2015, Sigma-Aldrich International GMBH—Sigma Aldrich Co. LLC, Sigma Aldrich Company LLC, 3500 Dekalb Street, Saint Louis, Missouri 63118 applied to be registered as an importer of Butylone (7541), a basic class of controlled substance listed in schedule I.

The company plans to import the above listed controlled substance for analytical research and testing of equipment.

Dated: October 13, 2015.
Louis J. Milione,
Deputy Assistant Administrator.

[FR Doc. 2015-26668 Filed 10-20-15; 8:45 am]

BILLING CODE 4410-09-P